GENERAL SERVICES ADMINISTRATION

[OMB Control No. 3090-0281]

National Capital Region (NCR), Office of Child Care Services; Submission for OMB Review; General Services Administration (GSA) Child Care Specialist Feedback Form

AGENCY: NCR Office of Child Care Services, Public Buildings Service (PBS), GSA.

ACTION: Notice of request for comments regarding an extension to an existing OMB clearance.

SUMMARY: Under the provisions of the Paperwork Reduction Act of 1995 (44 U.S.C. Chapter 35), the General Services Administration will be submitting to the Office of Management and Budget (OMB) a request to review and approve a previously approved information collection requirement. This information will be used to assess satisfaction with services delivered by staff from the Office of Child Care Services. The respondents are current users of the Office of Child Care Services. A request for public comments was published in the Federal Register at 74 FR 7065, February 12, 2009. No comments were received.

Public comments are particularly invited on: Whether this collection of information is necessary and whether it will have practical utility; whether our estimate of the public burden of this collection of information is accurate and based on valid assumptions and methodology; and ways to enhance the quality, utility, and clarity of the information to be collected.

DATES: Submit comments on or before: August 6, 2009.

FOR FURTHER INFORMATION CONTACT: Mr. Leo G. Bonner, Regional Child Care Coordinator, Office of Child Care Services, at telephone (202) 401-7403 or via e-mail to leo.bonner@gsa.gov.

ADDRESSES: Submit comments regarding this burden estimate or any other aspect of this collection of information, including suggestions for reducing this burden to GSA Desk Officer, OMB, Room 10236, NEOB, Washington, DC 20503, and a copy to the Regulatory Secretariat (VPR), General Services Administration, 1800 F Street, NW., Room 4041, Washington, DC 20405. Please cite OMB Control No. 3090-0281, General Services Administration (GSA) Child Care Specialist Feedback Form, in all correspondence.

SUPPLEMENTARY INFORMATION:

A. Purpose

This information will be used to assess consumer satisfaction with services delivered by staff from the Office of Child Care Services.

B. Annual Reporting Burden

Respondents: 144.

Responses per Respondent: 1.

Hours per Response: .083 (5 minutes).

Total Burden Hours: 12.

Obtaining Copies of Proposals: Requesters may obtain a copy of the information collection documents from the General Services Administration, Regulatory Secretariat (VPR), 1800 F Street, NW., Room 4041, Washington, DC 20405, telephone (202) 501-4755. Please cite OMB Control No. 3090-0281, General Services Administration (GSA) Child Care Specialist Feedback Form, in all correspondence.

Dated: June 29, 2009.
Casey Coleman,
Chief Information Officer.

[FR Doc. E9-15946 Filed 7-6-09; 8:45 am]

BILLING CODE 6820-A4-P